DEPARTMENT OF AGRICULTURE

Animal and Plant Health Inspection Service

9 CFR Part 94

[Docket No. APHIS-2006-0037]

Change in Disease Status of Namibia With Regard to Foot-and-Mouth Disease and Rinderpest

AGENCY: Animal and Plant Health Inspection Service, USDA.

ACTION: Proposed rule.

SUMMARY: We are proposing to amend the regulations to add Namibia, except the portion of the country north of the Veterinary Cordon Fence (VCF), to the list of regions that are considered free of foot-and-mouth disease (FMD), and to add the entire country to the list of regions that are considered free of rinderpest. We are taking this action because we have determined that the region in Namibia south of the VCF is now free of FMD and the entire country is free of rinderpest. We are also proposing to add Namibia, except the region north of the VCF, to the list of FMD- and rinderpest-free regions that are subject to certain import restrictions on meat and other animal products because of their proximity to or trading relationships with rinderpest- or FMD-affected regions. This proposed action would relieve certain restrictions due to FMD and rinderpest on the importation into the United States of certain live animals and animal products from all regions of Namibia except the region north of the VCF. However, because we consider Namibia to be affected with African swine fever, classical swine fever, and swine vesicular disease, the importation of live swine and pork and pork products would continue to be restricted. In addition, because we consider Namibia to be affected with other animal diseases that are exotic to the United States, the importation of live ruminants and germplasm would also continue to be restricted. These actions would update the disease status of Namibia with regard to FMD and rinderpest while continuing to protect the United States from an introduction of those diseases by providing additional requirements for any meat and meat products imported into the United States from Namibia.

DATES: We will consider all comments that we receive on or before August 14, 2006.

ADDRESSES: You may submit comments by either of the following methods:

• Federal eRulemaking Portal: Go to http://www.regulations.gov and, in the lower “Search Regulations and Federal Actions” box, select “Animal and Plant Health Inspection Service” from the agency drop-down menu, then click on “Submit.” In the Docket ID column, select APHIS-2006-0037 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0037, Regulatory Analysis and Development, PPD, APHIS, Station 3A-03.8, 4700 River Road Unit 118, Riverdale, MD 20737-1238. Please state that your comment refers to Docket No. APHIS-2006-0037.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Javier Vargas, Animal Scientist, Regionalization Evaluation Services Staff, National Center for Import and Export, VS, APHIS, 4700 River Road, Unit 38, Riverdale, MD 20737-1231; (301) 734-0756.

SUPPLEMENTARY INFORMATION:

Background

The regulations in 9 CFR part 94 (referred to below as the regulations) govern the importation of certain animals and animal products into the United States in order to prevent the introduction of various diseases, including rinderpest, foot-and-mouth disease (FMD), African swine fever, classical swine fever, and swine vesicular disease. These are dangerous and destructive communicable diseases of ruminants and swine. Section 94.1 of the regulations lists regions of the world that are declared free of rinderpest or free of both rinderpest and FMD. Rinderpest or FMD exists in all other parts of the world not listed. Section 94.11 of the regulations lists regions of the world that have been determined to be free of rinderpest and FMD, but that are subject to certain restrictions because of their proximity to or trading relationships with rinderpest- or FMD-affected regions.

In February 2001, the Animal and Plant Health Inspection Service (APHIS) received a request from Namibia's Government to recognize Namibia as free from rinderpest. Because rinderpest has not been diagnosed in Namibia since 1907, we are proposing to recognize the entire country of Namibia as free of rinderpest.

The Namibian Government also requested that APHIS recognize the region of Namibia south of the Veterinary Cordon Fence (VCF), which is described in more detail in the “Degree of Separation from Adjacent Regions,” as free of FMD. The regulations define the term region, in part, as “any defined geographic land area identifiable by geological, political, or surveyed boundaries.” Namibian veterinary officials define four zones for purposes of FMD control in Namibia: Infected, buffer, surveillance, and free. The infected zone is north of the VCF and includes eastern and western Caprivi, where FMD outbreaks have occurred and free-roaming wild buffalo are present. FMD vaccinations are conducted in this zone. The buffer zone, which abuts high-risk areas in neighboring countries, is also located north of the VCF. This area is considered affected with contagious bovine pleuropneumonia (CBPP) and does not have as stringent animal movement controls as the FMD-free area. FMD vaccinations are conducted in certain areas of this zone. The surveillance zone borders the VCF in the FMD-free area and is at least two farms wide. FMD vaccination does not occur in this area so that the animals can serve as sentinels. Finally, the free zone consists of the commercial farming area and communal areas south of the surveillance zone.

In response to the Namibian Government's request, and based on our review of supporting documentation accompanying the request and information obtained during a site visit, we are proposing to recognize the entire country of Namibia as rinderpest-free and all of Namibia except the region north of the VCF as free of FMD. Finally, we are also proposing to add Namibia, except the region north of the VCF, to the list of regions that are subject to certain import restrictions on meat and other animal products because of their proximity to or trading relationships with rinderpest-or FMD-affected regions.

Risk Analysis

Based on the information submitted to us by the Government of Namibia, as well as information gathered during a site visit by APHIS staff to Namibia in June 2003, we have reviewed and analyzed the animal health status of Namibia relative to FMD. Our review and analysis were conducted in light of the factors identified in 9 CFR 92.2, “Application for recognition of the animal health status of a region,” which are used to determine the level of risk associated with importing animals or animal products into the United States from a given region. Based on the information submitted to us and gathered during the June 2003 site visit, we have concluded the following:

Veterinary Infrastructure

The authority for veterinary infrastructure and control in Namibia rests with the Directorate of Veterinary Services (DVS) in the Ministry of Agriculture, Water, and Rural Development. This authority is derived from several laws, including the Undesirable Residue in Meat Act, the Stock Brands Act, the Government Notice on the Prohibition of Certain Farm Feeds, and the Animal Disease and Parasites Act, No. 13, of 1956; this last act is the primary source of authority for Namibia's animal health, disease control, and animal movement control activities. The overall structure of DVS includes a central headquarters and State veterinary offices throughout Namibia, both of which are described below.

DVS headquarters is located in Windhoek, where DVS officials develop all polices, laws, and regulations relating to animal health issues. The relationship between DVS headquarters and the State offices is close and information is shared regularly. The State offices are formally audited to review the offices' performance on trade-related issues, such as traceability, bovine spongiform encephalopathy (BSE) surveillance, and monitoring farm feeds for ruminant protein. During the site visit, APHIS staff found the State office they visited to be structured, effective, and organized.

DVS animal health officials participate in training activities on a regular basis, including teaching community members how to recognize disease symptoms. The central office sets criteria for FMD-free countries and assigns disease status to countries. Permits are issued according to a country's disease status and, if a disease outbreak occurs in a previously free country, DVS cancels the permits for affected articles from that country and alerts State veterinarians at the ports of arrival that those permits have been canceled.

Support for DVS in Namibian farming and producer groups and local communities is strong. This support is demonstrated by high involvement in programs such as participation and enforcement of vaccination schedules and community participation in education, outreach, and meetings. DVS works with various farming organizations in Namibia, such as the National Agricultural Union, which consists mainly of commercial farmers, and the Namibia National Farmers' Union, which is comprised of mostly communal farmers. DVS also works with the Namibian Meat Board, which is an industry group focusing on developing and improving livestock product markets. The Meat Board administers the Farm Assured Namibian Meat Scheme, a quality assurance program for meat, and operates the Brand Registry, which contains the registration of every meat producer's brand mark. Finally, DVS partners with the Namibian police force to ensure that all vehicles entering the proposed free zone through VCF checkpoints are inspected and that emergency roadblocks can be put into place if necessary.

The site visit team visited the Walvis Bay Veterinary Services Office, a State veterinary office located at a port on the central coast of Namibia. The premises included the State veterinarian's office and a quarantine facility used for small animals, such as dogs, birds, and cats. For each animal product entering Namibia, the State veterinarian keeps records of a description of the product, as well as the product's date of entry, permit number, origin, and quantity. The office is also responsible for performing field duties, such as annual farm inspections and inspections of cold storage facilities. The State veterinarians can hold a shipment until paperwork can be completed, but do not open sealed containers until all documents are present.

The State office receives faxes from the central office to alert the State veterinarian of any arriving shipments that will need inspection. During an inspection, the State veterinarian checks the expiration and product dates, the endorsement of the permit, and the physical appearance of the shipment. Satisfactory shipments are released to the owner, while unsatisfactory shipments must either be destroyed or returned to the country of origin. If the product is destroyed, the State veterinarian, municipal police, Port Control, and Customs are involved. Although no beef or lamb has been confiscated, a shipment of chicken was destroyed by being mixed with sand and buried in a 5 meter hole at the municipal dump. At the port visited by the APHIS team, the harbor is completely fenced off and guards man the port gate. If a shipment does not have stamped release papers, the guards will stop the shipment so that it cannot leave the harbor.

DVS also supplements its workforce through Community Animal Health Workers (CAHWs) who work in the communal areas to assist DVS’ disease surveillance and to provide a more comprehensive and accurate animal disease treatment, surveillance, and reporting system. Although the CAHWs are not government employees or certified, they receive government training in animal husbandry, handling, animal diseases, and health maintenance and are members of the community in which they work. The CAHWs then can establish private businesses that provide very basic veterinary care along with a limited veterinary pharmacy.

One concern about DVS raised during the site visit was the mandatory or voluntary retirement for several senior DVS officials in the upcoming year with no apparent plans for overlapping by replacements. This process could create a loss of institutional memory and result in a weakening or failure of the current disease control system, which requires consistent application and reassessment to prevent FMD from entering Namibia. In addition, highly trained personnel are spread very thin over a wide range of duties and qualified recruits are lacking due to either a lack of funding or training. DVS acknowledged these issues during the site visit and stated that field personnel are being moved to headquarters to receive training and become familiar with operations at the headquarters level. In addition, DVS advertised posts to fill vacancies prior to the officials' departure to ensure a smooth transition. Also, DVS stated that the restructuring was designed to strengthen surveillance, reporting, and case follow-up.

However, in July 2004, Namibia's Cabinet approved a new structure for DVS, which is designed to strengthen the central competent authority and allow for closer supervision and decentralization of services. The Directorate remains under the supervision of a Chief Veterinary Officer and consists of four divisions: Animal Disease Control (Animal Health); Veterinary Public Health; Epidemiology, Import/Export and Training; and Diagnostic Services and Research. Each of these divisions will be headed by a Deputy Chief Veterinary Officer who oversees a variety of supporting staff. Recruitment to fill positions has begun and progress in filling positions had been made as of January 2006. The effort to fill all positions is ongoing.

Under the new restructuring, Namibia is divided into four regions: South, North-east, North-west, and Central. With regard to Animal Health, each of the four regions will have a Chief Veterinarian, who reports directly to the Deputy Chief Veterinary Officer of the Animal Health division at headquarters. Each Chief Veterinarian will operate as a supervisor of a number of State veterinary officers (up to four each) and be responsible for training, control, monitoring, and guiding field veterinarians. Six additional field veterinarian posts will be added in the northern communal areas. In addition, the number of animal health technician (AHT) posts (agricultural diploma level) will be increased from 79 to 95, with a plan to phase out Stock Inspection Assistants over time.

The Veterinary Public Health division will consist of a Chief Veterinarian, a Control Veterinary Hygiene Inspector, chief hygiene inspectors, and a Veterinary Public Health Specialist. Chief Hygiene Inspector positions have been created to enhance supervision on the slaughter floor of abattoirs. The Epidemiology, Import/Export, and Training Division will also have a Chief Veterinarian, who will assist the Deputy with administrative issues, a veterinary specialist in epidemiology, and two additional veterinarians. One of these veterinarians will be responsible for the livestock identification and tracing system. There will also be a veterinarian in charge of import/export control, a chief veterinary technician, and additional technicians. There will also be 20 posts for veterinary officials who will be stationed at the main entry points. These posts have been approved and DVS hopes to fill them soon. The veterinary port officials will oversee compliance with import requirements and notification of arrival of animals and animal products.

The results of our evaluation indicate that animal health officials in Namibia have the legal authority to enforce Federal and State regulations pertaining to FMD and the necessary veterinary infrastructure to carry out FMD surveillance and control activities.

Disease History and Surveillance

The last outbreak of FMD in the surveillance and free zones (i.e., the region under consideration for FMD-free status) was in 1965. In the buffer zone, the last FMD outbreak occurred in 1992. However, in the infected zone, an FMD outbreak occurred on August 18, 2002. In this outbreak, six cattle were found to have FMD lesions that were South African type (SAT) positive. DVS controlled the outbreak through movement control and vaccination, vaccinating all animals in the immediate vicinity of the outbreak twice and all animals in the remainder of the infected zone once. After 6 months of not detecting another FMD-infected animal, the outbreak was declared over on March 31, 2003.

Active Surveillance

Most of Namibia's active surveillance occurs through inspections. In the surveillance zone, DVS inspects for FMD every 3 months, while inspections in the area north of the VCF occur biannually. In the free zone, inspections occur on an annual basis. During the inspections, the veterinarians and AHTs conduct census and disease reporting activities. Farmers in the free zone receive 1-month's notice and are required to present at least 80 percent of their stock for inspection. If a farmer does not comply, movement and marketing restrictions are put into place. Surveillance data are also collected from inspections required for movement permits, auctions, and upon arrival at abattoirs. During an inspection, a DVS official walks through a herd of animals rather than conducting individual exams for each animal. However, inspectors will individually check sick or injured animals and will take lick and feed samples from the animals.

For each premises, inspectors complete a farm visit form that includes animal health information such as vaccinations used, parasite treatment, mortality, diseases in stock and game, lick supplement status, and farm name, number, and district. The inspection team did note that brand marks were not included on the form; DVS stated the next reprint of forms will include a space for this information. Until that time, animal health technicians have to check for brand marks as part of the inspection protocol. If animals on a farm are not properly branded in accordance with the Stock Brands Act, the farm is closed. DVS also visits premises for reasons other than the scheduled inspections. For example, because there are so few private veterinarians in most areas of Namibia, DVS frequently responds to any disease or sickness reports for livestock.

As for wild game, no FMD serological surveys have been conducted in the free zone. However, in 1996, DVS conducted serological surveys of sable antelopes and free-roaming buffalo in the buffer zone. The herd of buffalo tested negative for antibodies to SAT 1, SAT 2, and SAT 3 both in 1996 and when retested in 2002. Any captured wild game are certified clinically free of disease before movement. The Department of Natural Resources within the Ministry of Environment and Tourism is the responsible body for managing game capture and movement. The site visit team visited the Etosha game park, which is north of the VCF, and found a minimal risk for FMD introduction based on the observation of double fences separating wild game from domestic livestock, the lack of Cape Buffalo species, and the low likelihood of visitors with FMD-susceptible animals or animal products.

Passive Surveillance

FMD surveillance in the buffer and free zones is typically accomplished through more passive surveillance means because of the inaccessibility of diagnostic services in remote locations. DVS and the Meat Board of Namibia have an extensive outreach education program for livestock owners that includes placing pamphlets and posters in community centers, churches, and gathering places. Radio announcements and weekly programs are widely used to disseminate information, especially in areas that are not accessible via telephone, Internet, or television. Veterinarians and AHTs also interact with farmers on a regular basis. In the northern communal area, CAHWs and pharmaceutical retailers participate in 1 to 2 week training sessions endorsed by DVS to learn to detect suspicious signs of foreign animal diseases and have a mandatory responsibility to notify DVS of any suspicion of FMD.

Diagnostic Capabilities

The Central Veterinary Laboratory (CVL) is an accredited biosecurity level 2 laboratory located in Windhoek. The CVL is not structured to test for all diseases listed by OIE (Office International des Epizooties, or World Organization for Animal Health), but does perform residue testing of meat destined for export and tests for vesicular diseases including bovine viral disease, infectious bovine rhinotracheitis, bluetongue, and orf. Although the CVL may acquire a diagnostic enzyme-linked immunosorbent assay kit for antibody detection of FMD, FMD testing occurs either at the Botswana Vaccine Institute, which is an OIE reference laboratory for FMD, or the Onderstepoort Veterinary Institute in the Republic of South Africa. The site team visited the latter facility and determined that the Institute was an adequate testing facility that had facilities designated for FMD vaccine production and exotic disease diagnosis. The tests used for FMD at the Institute meet OIE guidelines and the laboratory's records showed that three diagnostic investigations were submitted from Namibia between 2000 and 2003 to rule out FMD.

Given the information above, Namibia appears to have adequate disease control authority, programs, and animal health management to diagnose FMD.

Vaccination Status

The vaccination status in Namibia varies throughout the country. FMD vaccinations are not performed on any animal in either the surveillance or free zones, and only cattle are vaccinated in the infected zone and in certain areas of the buffer zone. The remaining unvaccinated cattle in the buffer zone serve as sentinels of FMD. FMD symptoms in these areas would likely be reported due to community education by DVS, the cultural importance of livestock health, and the frequent interactions of AHTs and CAHWs with local producers. Small stock are not vaccinated for FMD anywhere in Namibia.

In the buffer zone, which is FMD free with vaccination, vaccination coverage is 80 percent. FMD vaccinations are free and administered by DVS personnel. Only cattle in the Kavango, the area proximate to the infected area, and the north central area, a strip of land approximately 50 kilometers wide adjacent to Angola, are vaccinated annually. These cattle are vaccinated with an oil adjuvant bivalent (SAT 1 and SAT 2) FMD vaccine combined with a CBPP vaccine. In the infected zone, cattle in the eastern portion of Caprivi are vaccinated twice a year with a trivalent SAT 1, 2, and 3 vaccine, while the cattle in the western portion of Caprivi are vaccinated only once a year. Before vaccination, serological tests for FMD are not performed, which may result in the vaccination masking any FMD already present in the animals. However, due to the open range herd management style of the buffer zone, the vaccinated cattle are exposed to unvaccinated cattle that would likely serve as sentinels should the virus become present.

Any cattle entering Namibia from Angola are vaccinated at the border post of entry and branded with an “A” for identification. The cattle are also branded with an arrow that tells DVS officials the year in which the cattle were vaccinated. These cattle are prohibited from moving south of the VCF.

Vaccinations performed by DVS are recorded and maintained by State veterinary personnel for each herd owner. In order to facilitate vaccinations, DVS administers vaccinations at specific gathering places so that communal owners from the vicinity can bring their animals to the site. Vaccinated cattle are identified with an arrow brand, which indicates the year of vaccination. At the time of vaccination, the herd owner must present a stock card identifying the animals' vaccinations, census, and movements, which is then updated to reflect the most recent vaccination. These stock cards, which are maintained for both small stock and cattle, are kept by the owner, who must update the cards any time a movement, sale, slaughter, vaccination, or other significant event occurs. If a herd owner does not comply with vaccination requirements, the infraction is reported to the “induna” (chief or head person of the area) who alerts the water committee to deny water to the offending herd owner's livestock. Access is denied until the herd owner contacts the State veterinary office and schedules the cattle's vaccination.

FMD vaccine for Namibia is produced at the Botswana Vaccine Institute or the Onderstepoort Veterinary Institute, both of which are discussed in more detail under the “Diagnostic Capabilities” section above. The Onderstepoort Veterinary Institute produces vaccines containing prevalent FMD serotypes found in Africa, including SAT 1, SAT 2, and SAT 3. The Institute is also equipped to make autogenous FMD vaccines upon request. Namibia annually uses about 500,000 doses of bivalent/trivalent vaccines.

Disease Status of Adjacent Regions

Namibia is bordered to the north by Angola and Zambia, to the east by Botswana, and to the south and east by the Republic of South Africa. Zambia's border with Namibia abuts Namibia's infected zone and therefore is not assessed further in this document. Angola's border abuts Namibia's buffer zone. Angola experienced an FMD outbreak in 2001 and its veterinary disease control situation is unclear. Although Angola may represent a risk for FMD introduction into Namibia, Namibia's veterinary infrastructure and border controls likely would detect it.

Botswana experienced FMD outbreaks in 2002 and 2003; however, the southern portion of Botswana, which abuts Namibia's proposed free zone, is recognized by the OIE and Namibia as FMD-free. The border between Botswana and Namibia consists of a game- and stock-proof fence. However, approximately 10 kilometers of the northern part of Botswana lies adjacent to the surveillance zone of Namibia. This portion of the surveillance zone, referred to as the “Gam area,” is separated by four fences (double game- and stock-proof fences). Although the Republic of South Africa has had FMD outbreaks in 2001 and 2003, these outbreaks have mostly occurred in the eastern portion of the country that is not near Namibia.

In addition to neighboring countries, the proposed region to be declared FMD-free is bordered by the buffer zone as described in the “Background” section. Information on this zone's FMD status can be found in the “Disease History and Surveillance” section above.

Because Namibia shares borders with and trades with countries that have experienced recent FMD outbreaks or that are not recognized as FMD-free by the United States and because FMD exists in some portions of Namibia, APHIS proposes to add Namibia (excluding the region north of the VCF) to the list of regions in § 94.11. The regions in § 94.11, although declared free of FMD and rinderpest, supplement their national meat supply by the importation of fresh (chilled or frozen) meat of ruminants or swine from regions that are designated in § 94.1(a) to be infected with rinderpest or FMD; or have a common land border with regions designated as infected with rinderpest or FMD; or import ruminants or swine from regions designated as infected with rinderpest or FMD under conditions less restrictive than would be acceptable for importation into the United States. Therefore, all meat of ruminants or swine or other animal products would have to meet the certification requirements in § 94.11 to be eligible for importation into the United States. These certification requirements are explained later in this document under the heading “Certification Requirements.”

Degree of Separation From Adjacent Regions

Borders With Other Countries

The border between Namibia and the Republic of South Africa consists of the Kalahari Desert adjacent to the Orange River and a stock-proof fence. Approximately 10 kilometers of the northern part of Botswana lies adjacent to the surveillance zone in Namibia and is separated from Namibia by double game- and stock-proof fences for a total of four fences. The rest of the border between Botswana and Namibia consists of a game- and stock-proof fence, which appeared to be in good shape during the APHIS site visit. However, there was evidence of warthogs digging under the fence on both sides. Namibia's border with Angola did not have an adequate fence present between the two countries. However, a task force is currently in place to reestablish a fence along this border and Namibia has initiated its 10-year plan to erect a complete fence on the border with Angola with specific areas for animal entry. Namibia's long-term goal is to move the VCF to the Angolan border with the intention that the entire country, except the infected zone of eastern Caprivi, would be included in the FMD-free region. DVS feels that disease control in the country is assisted by the sparse human and animal population coupled with the long distances between settlements. The nearest part of the infected zone to the free zone is more than 200 kilometers (124 miles) away.

DVS has a permanent fence team that patrols and repairs damage to the fences. The teams are in the field for two weeks every month. Security agents also patrol the border fence and report fence breaches. In addition, every 6 months there is a joint inspection along the entire border by Namibian and Batswana officials.

For animals that originate from Angola, there are border entry points. At these entry points DVS examines the animals and cattle re vaccinated for CBPP and FMD prior to entry. The cattle are also branded as originating from Angola. Animals imported from Angola are mainly used for local slaughter or enter Namibia for seasonal grazing and then return to Angola. If the cattle are slaughtered in the buffer zone, the meat must stay in the buffer zone and cannot enter the free zone. In addition, these cattle cannot cross the VCF into the free zone.

Borders Within Namibia

The surveillance and free zones in Namibia are bounded by natural and man-made borders. The western coast of Namibia consists of Atlantic coastline and a very harsh desert that effectively prevents all animal movement. As discussed above in the “Background” section above, within Namibia the surveillance and free areas are separated from the buffer and infected zones by the Veterinary Cordon Fence (VCF). This fence is designed to prohibit cloven-hoofed domestic and wild animals from moving into the FMD-free zone from the north; this movement restriction also stops any CBPP spread from north to south Namibia. In past years, Namibian officials have moved the VCF progressively northward, leaving old portions of the fence in place to control movements of animals and animal products in the event of an outbreak for a total of about 2,200 kilometers of old and current fence. DVS is aware that APHIS must be notified of any further plans for northward movement of the fence so that APHIS may reevaluate the region's risk.

Namibia treats the VCF as if it were an international border for livestock purposes. The only way to pass through the VCF is through gateposts that have a roadblock at which vehicles are inspected. On major roads, the gateposts allow traffic movement, but are monitored 24 hours a day by veterinary and police personnel who perform inspections to ensure that prohibited animals, meat, or meat products are not being brought into the free zone. The VCF consists of a northern fence, which is a 17- to 21-wire game-proof fence 2.4 meters in height, and a southern fence, which is an 8-wire stock-proof fence 1.4 meters in height. These fences are separated by 10 meters of dead space. The site visit team observed many kilometers of the fence and found it in good repair and of adequate structure to stop most animals. The site team did notice that warthogs could burrow under the fence, but this is likely not a major concern, as these animals are likely to be localized to the vicinity of the fence. However, as stated above, the fence is maintained by full-time repair crews that patrol the fence in search of damage from animals or humans.

From 2000-2003, DVS recorded a number of breaches to the VCF, which included cuts made to the fence, cuts made for the movement of stolen vehicles, and smuggling of animals and animal products. Each of the cuts reported were repaired by patrol teams. Seven of the breaches involved individuals attempting to smuggle various animals or animal products, such as live cattle, goat meat, and cattle hides, through the fence. In each of these cases, appropriate remedial and enforcement action was taken.

Namibia is adequately separated from other countries and regions by maintained game-proof fences, road blocks, and physical barriers such as deserts and rivers. These boundaries appear to be adequate as long as DVS maintains active control of border posts and continues maintenance of the stock- and game-proof fences.

Movement Controls and Biological Security

In order to control cattle movement, an animal identification system has been put into place to identify and track all cattle in Namibia from farm to processing. Under the Stock Brands Act of 1995, each cattle owner has an individual brand mark and must brand all cattle 6 months of age and older with a registered brand that identifies the cattle's ownership and location. Livestock owners also must brand all purchased cattle within 30 days of procurement. Brands must be legible and are recorded on a movement permit as described below. Permits are required for various types of cattle movement, and any movement or sale of cattle requires rebranding and recording the event on stock cards and in DVS records. Through branding, stock cards, DVS records, and bar codes assigned to meat from slaughter to processing, Namibia can trace back animals. Under the current version of the Stock Brands Act, which was amended on March 29, 2004, and enacted on April 14, 2004, all small stock on all farms in Namibia must be identifiable by means of a readable tattoo and/or metal eartag bearing the registered brand mark of the owner when they reach 3 months of age or earlier if removed from the farm.

Import Controls

Namibia imports fresh beef, mutton, pork, processed meat, and other animal products from various countries, including the Republic of South Africa. In order to import animals and animal products into Namibia, a veterinary import permit and a health certificate are required. The permits are issued by the Deputy Director of Epidemiology and require that transport trucks or containers importing animal products and certain live animals be sealed. Namibia does not import domestic animals or animal products from FMD-or BSE-affected regions and does not permit animals vaccinated against FMD or certain products from these animals to enter the country.

DVS currently has a registry system in place to track all imported animals from arrival to death and plans to add a component to this system that would ensure that each animal's cause of death is recorded. DVS also has plans to identify imported cattle, sheep, goats, and ostriches with unique identification eartags and brands and to institute a plan to ensure that imported cattle are tested for BSE after death. Animals or animal products entering Namibia from Windhoek International Airport without a permit are either destroyed or returned to the country of origin. DVS is currently creating a system to record these entry denials.

Export Controls

Namibia has abattoirs that prepare and export meat and meat products. These abattoirs are supervised directly by government veterinary officials who are responsible for export certification. After arrival at the abattoir, cattle are examined for clinical signs of illness by veterinary staff. All animals also undergo an antemortem inspection during which they are specifically checked for signs or lesions suggestive of FMD and a postmortem inspection during which the feet and tongues are checked for FMD lesions. DVS receives monthly condemnation statements and summaries from export slaughter abattoirs. For more details on the slaughter process for exportable meat and meat products, see the section entitled “Livestock Demographics and Marketing” below.

Within Namibia

DVS is authorized to control animal movements between farms, from farm to slaughter, and from farm to auction. If movement controls are not complied with, farmers' market access may be restricted. The State police work with DVS to enforce road blocks, control livestock movement, and, if needed, guard and isolate an infected area after an outbreak.

In order to control animal movement, DVS requires the use of a veterinary movement permit when animals are moved between premises. Copies of these movement permits are kept in the veterinary office at the region of origin, with the owner, and with the consignment. A fourth copy is also sent to the veterinary office at the shipment's destination, which alerts the State veterinarian of the shipment. Each State veterinary office keeps movement records for each producer and summary statistics are compiled electronically at DVS headquarters. Also, any animals moved from the surveillance zone must have a “red cross” movement permit in addition to a 3-week quarantine at the destination farm. A red cross permit is a movement permit with a large red watermark to distinguish it from a regular movement permit. These permits are used when DVS needs to alert officials of certain conditions existing in the permit, such as quarantine at the destination farm or a sealed vehicle requirement for transportation.

Animals in Namibia can be moved via livehaul conveyances, which are allowed free movement through the VCF gateposts and have no requirement for cleaning or disinfection prior to entry south of the VCF or into quarantine camps. This lack of requirements generally does not pose a risk much of the year because steel truck beds and the extremely hot and dry climate would likely eliminate the FMD virus. However, in the rainy season or in the presence of manure, the trucks could become a mechanical vector for FMD. The site visit team expressed its concern about this possibility, and in November 2004, DVS introduced a system for disinfecting trucks used for the transport of cattle into and out of quarantine camps in the areas north of the VCF. In areas south of the VCF, a system of registration of livestock transports has been introduced. Trucks transporting livestock to export abattoirs must be cleaned and disinfected before animals are loaded.

Given this information, APHIS did not identify any significant risk pathways to consider Namibian animals or animal products as a likely source for introducing FMD into the United States.

Movement Across Borders

Borders With Other Countries

Animals moving into Namibia are primarily imported from the Republic of South Africa; most of the imported cloven-hoofed game originates from the portion of the Republic of South Africa identified by the OIE as FMD-free. Namibia and the Republic of South Africa originally had a bilateral agreement allowing the importation of animals into Namibia under a Master Import Permit system, which resulted in DVS having incomplete records of animal and animal products movement from the Republic of South Africa during this time. However, this system was abandoned after the FMD outbreak in the Republic of South Africa in 2000 and all cloven-hoofed animals and their products being imported into Namibia were required to have import permits. After the outbreak was controlled, permits for low-risk products, such as dairy products and processed/cooked meats, were waived. Since the APHIS site team visit, DVS has finalized the system for issuing import permits for animals and animal products from the Republic of South Africa.

Currently, for meat originating from the Republic of South Africa, officials may ask for a certificate verifying that the meat is entering the country in accordance with the agreement between Namibia and the Republic of South Africa. This agreement provides that the requirement for a permit varies with the amount of meat being imported. For example, shipments of meat less than 25 kilograms are allowed without a permit or health certificate if it is for home consumption, while shipments over 500 kilograms must have both an import permit and a health certificate.

Animals from Angola primarily are brought into Namibia for slaughter, seasonal grazing, or breeding. Namibia's border with Angola has three entry points for individuals importing animals into Namibia: Oshikango, Ruacana, and Mahenene. At these points, DVS examines and vaccinates the cattle for CBPP and FMD before entry. After vaccination, the cattle from Angola are hot branded with an “A” and an arrow that indicates the year of the animal's vaccination. Although animals imported from Angola are not quarantined, they remain in the buffer zone and are not permitted to cross into the free zone; they can be returned to Angola and later reenter Namibia. If cattle are slaughtered in the buffer zone, the meat must remain in that zone.

Small stock animals are not identified as originating from Angola and can easily mix with local animals and potentially move from the buffer zone to the areas south of the VCF. However, small stock from the buffer zone not going directly to slaughter would have to undergo two 3-week quarantines, one in the buffer zone and one at their destination, before entering the market in the free zone. In addition, with the placement of sentinels at quarantine stations, APHIS considers that any FMD concerns regarding Angolan small stock animals that may be sent south of the VCF would be addressed. Also, as described in “Movement Controls,” Namibia requires identification for small stock, which will further mitigate the risk of infected small stock from Angola being moved south of the VCF.

For imports from other countries, Namibia requires a permit for all animals and animal products. Namibia does not allow the importation of animals or animal products from regions under FMD restriction and cattle vaccinated against FMD are not imported. All imported cattle are permanently branded and not accepted for slaughter at export slaughter facilities. Cattle may be imported under a veterinary permit. At the time of the site visit, the only recent imports of live sheep, goats, and pigs into the free zone were from the area of Botswana that Namibia considers to be FMD-free. These animals once belonged to Namibians who were residing in Botswana before Namibia obtained independence and before the country required import permits and veterinary health certificates. There is also an import permit for game animals from Botswana.

The site visit team also observed a vehicle inspection at the Oshivello gatepost, which is staffed 24 hours a day, 7 days a week. At Oshivello, individuals carrying meat products must cook it or dispose of it before entering Namibia. The gatepost personnel keep logbooks of contraband seizures and livestock movement.

One land border post, the Transkalahari Customs post in Buitepos on the border of Botswana, was visited by the site team. The officials were aware and knowledgable of DVS requirements for animals and animal products entering Namibia. Permits and health certificates must be presented to officials for meat. Goods are declared voluntarily, but vehicles and luggage are searched if they are suspected of carrying contraband. Also, livestock and animal product conveyances are inspected and drivers are required to show movement permits.

Game prizes and trophies must have an import permit. Customs officials stated that meat is confiscated, on average, about once a month and destroyed at a burn pit adjacent to the facility. For live animals, customs officials check the import permit, ensure that the vehicle seals are intact, and attempt to ensure that the animals meet the condition on the permit, although this inspection can be difficult as the animals are in the sealed vehicles. Customs officials are permitted to contact DVS to offload animals, but more often they unload the animals themselves and then replace the DVS seal with a Customs seal, if necessary.

The site team also visited the Windhoek International Airport, which has incoming flights from Frankfurt, Munich, Capetown, Angola, Johannesburg, and Botswana. While there, they interviewed a Customs official who was not familiar with the duties of Namibian Customs. Although the official was aware that certain plant products must be confiscated, he lacked knowledge of animal products that should be confiscated or not allowed entry. In addition, the airport did not have signs displaying warning or guidance on animal products that were permitted or prohibited to enter Namibia. There were also no checks on the garbage offloaded from planes. Due to the disparity of knowledge between customs officers, DVS became involved in the training of customs officials on the requirements for the importation of animals and animal products. In addition, to further enhance the awareness of the import of animals and animal products, DVS advised State veterinarians, among other personnel, that attention should be given to departure airstrips from places such as lodges to ensure that people who are departing the area are acquainted with the danger and restrictions of transporting animal and animal products to the FMD-free zone. In addition, DVS received approval to establish 20 posts that will be staffed by veterinary port officials. These posts would be at main entry points. These veterinary port officials will oversee compliance with import requirements and notification of arrival of animals and products. Also, upon verification by DVS, the site visit team found that at the international airport in Windhoek, waste is either burned or dumped in a general dump at the airport complex. Private contractors are responsible for disposing of waste from planes, buses, and trains in Windhoek.

Finally, as for sea ports, the site visit team inspected Walvis Bay on the Atlantic Ocean. Customs currently evaluates imports using a guideline called “Consolidated List of Prohibited and Restricted Imports,” which was originally created by Republic of South Africa officials, but hopes to have Namibian-specific guidelines in place soon. Namibian-specific guidelines have been developed and stakeholders are being provided the opportunity to comment prior to their implementation. Customs officials here check the waybills and manifests to ensure that the shipment matches information provided by the documents and to identify which ministry is responsible for the commodity's permit. Customs will also notify State veterinarian offices of any shipments that must be examined and will check before the shipment leaves the office that the State veterinarian has released the item. The port also processes skins received from north of the VCF in sealed containers, which the State veterinarian checks for intact seals and completed paperwork. Passenger ships mainly arrive from November to April; luggage is spot checked for animal and plant materials.

International garbage entering Namibia is collected for disposal at various ports, including the Walvis Bay office described above. At Walvis Bay, a private company is contracted to collect the garbage and remove it to municipal dumps. It was not clear how or whether garbage was treated prior to disposal. The site visit team received conflicting reports about the handling of international food garbage and uncertainty existed about whether garbage was taken directly to the dump or if it was diverted to a pig farmer. As a result, the site team asked for a clarification of how international garbage is handled at Walvis Bay because of concerns that FMD could be introduced into the food chain in Namibia by animals scavenging unmonitored garbage dumps. DVS stated that international garbage disposal and removal is completed by an independent contractor who dumps the refuse in the municipal dump and then covers it with soil, which DVS and the Ministry of Health monitor.

Due to the information above, a risk of animal disease incursion may exist in Namibia due to a lack of consistency at points of entry into Namibia regarding the entry of animal products. However, in 2003 DVS issued a letter to the Director of Customs and Excise regarding animal and animal product control at international points of entry. DVS advised Customs officials of disparities on how animal products are handled and that a DVS official has been appointed to visit various entry points, evaluate control measures, and discuss relevant issues with all authorities to ensure compliance with Namibia's veterinary import requirements. DVS will also have the State veterinary staff visit entry points in their designated districts and become involved in the training of Customs officials. Also, as a result of the new structure for DVS, 20 veterinary port officials will be stationed at main entry points to enhance oversight of compliance with the importation requirements for animals and animal products.

Borders Between Zones Within Namibia

As discussed above in the “Background” section, we are proposing to declare a certain region of Namibia, the area south of the VCF, as FMD-free. Cloven-hoofed animals moving from the infected zone to the buffer zone must undergo serological tests for FMD, test negative for the disease, and be quarantined for 3 weeks before entering the buffer zone. Police checkpoints exist throughout Namibia to check permits and papers, including those of livestock trucks, to ensure validity.

For animals moving from the buffer zone into the free zone, various requirements are in place to prevent the spread of FMD south of the VCF. Live cattle are not permitted to be moved from the buffer zone to the free zone; game animals are permitted to move only after a 21-day quarantine. Cattle that are slaughtered in the buffer zone are inspected both ante- and post-mortem for FMD lesions. Beef from these animals is matured 24 hours and the pH must be below 6.0; the beef is then hard frozen. Carcasses are deboned and the lymphatics are removed. Meat must be produced at an approved abattoir and remain at the facility for 3 weeks in case of an undetected outbreak in the production area, especially in northern Namibia where no fences exist between Namibia and Angola. Meat products are then moved in sealed vehicles from the buffer zone to the free zone for local consumption or to the Republic of South Africa under permit. Beef sent to the free zone may be further processed, but each box of meat must have bar code identification so that traceback to the slaughterhouse and herd of origin can occur.

More than 3,000 small stock, such as sheep and goats, were moved from the buffer zone to the free zone each year from 2000 to 2002. As of June 2003, 1,178 animals had been moved. Small stock animals originate from areas where cattle are not vaccinated for FMD and are quarantined in one of four quarantine stations in the buffer zone for 3 weeks and then examined for signs of FMD. The site visit team visited one of these quarantine stations and found there was adequate isolation for the animals. Upon entry and exit of the station, the animals' mouths are inspected for signs of vesicular disease and observed for other FMD symptoms. However, the station contained much large, brushy vegetation, which may make the observation of mild FMD symptoms more difficult as such signs could be attributed to damage caused by the vegetation or missed. Small stock animals are not vaccinated or tested for FMD prior to movement, which may create a risk in moving an FMD-positive animal into the free zone. However, in December 2003, DVS began using sentinel cattle during quarantine of small stock. Small stock are penned with seronegative cattle that are retested after 21 days. Small stock are only released when test results are negative. Small stock that have completed the minimum 21-day quarantine and that are not destined for immediate slaughter are not released for an additional 90 days. The animals may be held at official quarantine facilities or at approved facilities at the farm of destination for the remainder of the quarantine period.

At the farm of destination, a State veterinarian inspects the isolation facilities for the quarantined animals and then breaks the transport seals. For animals being quarantined on the farm of destination, quarantine must take place in a double-fenced quarantine facility or the entire farm is quarantined with the small stock restricted to an inside enclosure. Transport vehicles are cleaned and disinfected at the VCF and after unloading.

Game animal products, such as elephant ears and hides, buffalo skulls and horns, hyena skins, and lion capes, are allowed to move south of the VCF under certain conditions. Untreated hides from quarantine abattoirs in Oshakati (buffer zone) and Katima Mulili (infected zone) can be moved into the free zone. However, untreated hides from any other locations must be dried and quarantined under veterinary supervision for 3 months before moving south of the VCF. In order to be transported into the VCF, hides must be accompanied by a permit and a red cross permit, travel in a sealed truck, and be packed in airtight containers sealed under veterinary supervision. After loading, untreated hides must proceed immediately to an approved tannery for supervised unloading and a State veterinary officer must be notified of their arrival. At the tannery, the seals are broken by the State veterinarian, who must ensure that the hides enter the tanning process, which deactivates any FMD. Treated hides must also be accompanied by movement and red cross permits and must be treated through a 3 month quarantine or a sodium carbonate treatment with a 1 month quarantine. Treated hides and skins from Angola may only be taken to approved tanneries in Okapuka (free zone) or Nakara, but treated products from Namibia may move anywhere in the country after crossing into the free zone.

The site team visited one of the quarantine facilities, the Bergvlug farm, as a representative quarantine facility. The quarantine manager lives just outside the facility's gate with his family, allowing for close supervision of the facility. Animals entering the facility are recorded by permit number, date of arrival, owner address, species, number of animals, period of quarantine, tariff, amount, and country of origin. Electric fences surround areas that hold small stock to prevent predator entry. The premises also has a laboratory for research animals and postmortem exams, an incinerator, and cleaning and disinfection equipment.

Officials in Namibia have the authority, procedures, and infrastructure to enforce effectively the system of permits, inspection, quarantines, and treatments that the country has in place to control animals and animal products. APHIS did not identify any specific limitations in the system that might pose an FMD risk to the United States.

Livestock Demographics and Marketing Practices

DVS conducts an annual census of all livestock in Namibia. The numbers of FMD-susceptible livestock in 2004 are listed in table 1.

Table 1.—FMD-Susceptible Livestock, 2004
Type of livestock | Number
Cattle | 2,349,700
Sheep | 2,619,363
Goats | 1,997,172
Swine | 52,624
Source: Namibian Government.

In Northern Namibia, cattle farming is predominant, while in southern Namibia sheep farming is more common. In the free zone, livestock are maintained on privately owned farms except for a communal range area in the western part of the Omaruru State Veterinary district. In the buffer zone, livestock graze on communal land. Communal farming is largely used for sustenance.

Swine production in commercial facilities in Namibia is small because feed must be imported from the Republic of South Africa. Due to the presence of African swine fever in Namibia, these facilities must be double fenced to decrease contact with warthogs that may be infected with that disease. These facilities are inspected annually by an animal health inspector. Namibian law prohibits feeding swine-origin material to swine and commercial facilities do not feed swill to pigs. A small number of people purchase fattening pigs for Christmas for their own consumption. Although these individuals do not have to double fence their fattening pigs, they must slaughter the pigs by a certain date and obtain a permit to move the pigs to their premises. Wild game animals are prevalent in all regions of Namibia and are believed to be free of FMD as discussed in the “Disease History and Surveillance” section above.

The site visit team observed two farms in Namibia: A cattle/game farm and a sheep/game farm. At the cattle/game farm, the owner maintained monthly records on the number of deaths, births, and animals sent to slaughter as well as a head count. This farm had approximately 1,600 head of cattle. The farm owner receives educational material on FMD from the farmers association and knew the procedure for contacting the State veterinarian and animal health inspectors. As for movement permits, the owner knew to request movement permits for cattle. The farm also holds game hunts in which trophies may be taken and the meat, which is dressed outside of the pasture area, is made into biltong for farm workers, family, and guests. All game for this farm is purchased from an area south of the VCF and any movement of these animals requires capture and movement permits, which are overseen by the Nature Conservancy. The game on this farm was not restocked and the population is controlled with hunting and sicknesses, such as plant poisoning.

On the sheep/game farm, the owner had 1,500 Dorper sheep including lambs that are kept in fields year round. Lambs are kept for up to 5 months before being sent to slaughter. The game at this farm included springbuck, oryx, and blue wildebeest. The farm's owner works closely with the Nature Conservancy with regard to the movement of animals, game censuses, culling, and night culling, which the farm uses to depopulate springbuck. Game animals are slaughtered at a mobile facility outside the pasture area where the head, legs, and intestines are removed from each animal. The animal is then stored and shipped in a cooling truck to an abattoir, where the hide is removed and the carcasses are prepared. The owner at this facility also kept detailed records of animal movement permits and all animal deaths of which he was aware; however, he usually finds only skeletal remains. The owner performs autopsies on any animal that dies on his premises.

Livestock in Namibia can be sold at livestock auctions. Larger auction facilities are registered with the Animal Health Department. If an auction involves selling animals from more than one source, DVS will attend the auction, inspect the animals, issue movement permits, and collects permits, checking them for endorsements, brand marks, and animals in corrals. If any game animals are present at the auction, the Nature Conservancy must be present to oversee any sales. Auctions in the communal area can take place anywhere in the area as long as DVS is notified ahead of time to be present to inspect animal transactions and issue permits for animal movement. In addition, animal owners must present their stock card to DVS so DVS can record the ownership change and movement. DVS is not present for animal sales from personal property, but most buyers will travel to the State office to obtain a movement permit for the purchased animal.

Some slaughterhouses in Namibia have feedlots, which are areas in which cattle can be held before they enter a slaughter line. These feedlots help ensure a steady slaughter line of animals. The APHIS team visited the Okapuka feedlot, which is owned by a Meatco abattoir. The feedlot purchases cattle ranging from 8 to 12 months of age from farmers, communal areas through permittees, and auctions all of which are located south of the VCF. The cattle generally remain on the premises for 3 months with each feedlot operating on an all-in, all-out policy. Upon arriving at the feedlot, all cattle are branded, eartagged, dipped, dewormed, and vaccinated for anthrax, several clostridial diseases, pasteurella, and infectious bovine rhinotracheitis. The cattle are also checked every day for signs of sickness; sick cattle are removed from the herd. Fifteen to twenty percent of the cattle at the lot are female. Cattle are pen fed on a mixed-ration diet that is completely vegetarian with no fish, poultry, or mammalian byproducts. The feedlot maintains records of arrival, departure, disease diagnosis, and death of each cattle.

The site visit team also observed two abattoirs: The Farmer's Meat Packers and Meatco. Both of these facilities operate under the Hazard Analysis Critical Control Point System. The Farmer's Meat Packers facility slaughters goats, lamb, sheep, and small game with a maximum capacity of 1,500 sheep, 400 game animals, and 250 deboning of lamb and game animals per day. The facility slaughters approximately 1,200 sheep per day and only receives animals from farms that DVS annually inspects.

All livestock animals entering the facility are already marked with identification indicating the preceding owners; this information is added to the arrival sheet. Upon entry, the animals are checked by the veterinary health inspector for symptoms or lesions and any difficulties are referred to the State veterinarian. All live animals are tagged with a scan tag, and animals that arrive dead or die after arrival are taken to the dump site, burned, and buried under the veterinary health inspector's supervision. If an animal dies after arrival under suspicious circumstances, tests are performed and the abattoir's veterinarian performs a necropsy, calling the State veterinarian if the cause of death could be contagious. Sheep from the same owner are marked. Paint marks are used if there is no other identifier on animal. After slaughter, tags (colored) are used to mark where new ownership begins and animals are tagged with a scan tag. The person who scans has a list of owners and the number of animals. The facility also has a high incidence form, which is completed when a large shipment has a 5 percent incidence or a small shipment has 10 percent incident of listed conditions. The site visit team noticed that the form did not include vesicular diseases. Livestock animal carcasses are kept in chillers at 4 °C for 24 hours and have a pH of about 5.4 to 5.5, which is only checked if the importing country requires it. A representative from the Namibian Meat Board grades the meat. As for game animals, the facility does not slaughter live animals, but instead deals with carcasses after they have been culled at the ranch in origin. A separate cooler, exam area, and offloading area exist for game and the pH is not measured unless required by the importing country. Trucks leaving the facility are cleaned and washed prior to departure.

Sheep and game are dressed separately on the same slaughter line. In between uses of game or sheep, the equipment is cleaned and checked by the VHI to ensure there was no mixed slaughtering. During work hours, individuals working in the clean area are not permitted to mix with the employees responsible for slaughter. These two groups have separate facilities, including during outdoor breaks. The surfaces of the slaughter line are cleaned between every 15 carcasses, and every day 50 samples are sent to the central laboratory for salmonella testing. The knives are changed constantly and sterilized before use. Condemned trimmings are taken to the facility's dump site for burning.

Meatco, another abattoir visited by the site visit team, has four abattoirs: Two in the free zone, one in the buffer zone, and one in the infected zone. Meatco slaughters cattle, sheep, goats, and pigs. Ninety-nine percent of source farms, which are located south of the VCF, are on contract procurement from Meatco. Of the ovines slaughtered, 90 percent are lambs and 10 percent are older sheep.

When a truck arrives at the facility, the truck is checked for a valid animal movement permit before offloading its animals. Once the animals are offloaded, inspectors examine the animals, collect movement permits, and enter data on the slaughter animal arrival record. For cattle, antemortem inspections take place in specially built pens with adequate room for cattle to be moved for a thorough examination. The running chute leading up to the holding pens also allowed for adequate animal inspection. After unloading, the trucks are washed to remove solid matter, which is verified by a guard who keeps a written record, but are not disinfected.

Each month the facility sends four heads to the central laboratory for brain sampling. At the time of the site visit, no neurological conditions have been diagnosed by the abattoir. After beheading each carcass, matching tags are placed on the head and carcass of the animal, which stay in place until the carcass is graded. The tags are then removed and a bar code tag is placed on the carcass by which the bar code tag can be traced from incoming shipment to end-product boxes. A pallet tracing system is used to ensure consignments are shipped correctly and only two people have access to the tracking and loading system to ensure integrity. Carcasses are held in chillers at 7 °C for 48 hours before they are deboned. Random pH tests in compliance with European Union requirements are performed on carcasses with a calibrated pH meter, which is calibrated before testing each carcass. For cattle, the pH is taken in two places, the forequarter and hindquarter, due to a possible 0.2 to 0.4 difference; the average pH is 5.4 to 5.7. Sheep carcasses are also tested for pH levels. A veterinarian verifies the pH and temperature prior to movement out of the chiller and also inspects for any dark meat, which indicates stress, poor bleeding, or fever. If necessary, carcasses are rejected from export and used in the local market instead.

In addition to commercial abattoirs, some villages in Namibia have bush abattoirs, some of which slaughter only one to two animals per day. These abattoirs can be sources of surveillance information. DVS was in the process of training personnel at these abattoirs.

APHIS did not identify any factors in this category that might pose a risk to the United States if animals or animal products are imported from Namibia.

Detection and Eradication of Disease

If an FMD outbreak does occur, DVS has an emergency response plan in place that includes notifying a reporting list, which includes trading partners, within 24 hours of an outbreak. The plan stresses early detection and reporting and includes training for both farmers and DVS staff so that an outbreak can be detected in its early phases. The plan also includes protocols for sampling and diagnostic submissions as well as disinfection and biosecurity and a public awareness strategy to quickly communicate restrictions and stoppages of all animals and animal products. Emergency equipment is stored in the Otjiwarango office, which is centrally located, and State veterinarians have instructions to establish animal movement restrictions, disease containment, quarantines, road blocks, and buffer and surveillance zones around the outbreak. In addition, contingency funding plans for the immediate mobilization of 300 military personnel have been approved by the Ministry.

Given the geography of the free zone, which includes limited roadways with almost uniform division of the area by game and stock fences, the authority for compulsory vehicle stoppage at roadblocks, the strong public awareness of FMD, mandatory reporting, and routine field inspections, APHIS concluded that an FMD outbreak likely would be detected and responded to quickly. A recent FMD outbreak in the infected zone was quickly controlled by DVS using the system above. Namibia has a well planned, documented, and readily implemented emergency response system to rapidly identify and respond to an FMD outbreak. Based on the above factors, APHIS considers the likelihood of an FMD outbreak occurring in Namibia to be low.

Certification Requirements

We are proposing to add Namibia, excluding the region north of the VCF, to the list in § 94.11(a) of regions declared free of rinderpest and FMD but that are subject to special restrictions on the importation of their meat and other animal products into the United States. The regions listed in § 94.11(a) are subject to these special restrictions because they: (1) Supplement their national meat supply by importing fresh (chilled or frozen) meat of ruminants or swine from regions that are designated in § 94.1(a) as regions where rinderpest or FMD exists, (2) have a common land border with regions where rinderpest or FMD exists, or (3) import ruminants or swine from regions where rinderpest or FMD exists under conditions less restrictive than would be acceptable for importation into the United States.

As previously noted, Namibia shares land borders with Botswana, Angola, and the Republic of South Africa, all of which have experienced recent FMD outbreaks. A portion of Namibia, the infected zone, is also considered affected with FMD. In addition, from 2000-2002, Namibia imported fresh beef, mutton, and pork from several countries the United States considers affected with FMD. Namibia also imported cooked and uncooked processed meat from the Republic of South Africa under the condition that the meat be cooked to a core temperature of 70 °C for 30 minutes, which is not as long as the time required in § 94.4 of the regulations for cooked meat from regions where FMD exists. Namibia also imports unprocessed hides and skins of ungulates or parts thereof, trophies, wool, and hair, all of which must be treated in accordance with the veterinary health certificate requirements. Namibia trades these items with countries the United States considers affected with FMD and some of the treatment requirements are not as restrictive as those of the United States. Finally, Namibia also imports milk and milk-based products from regions the United States does not consider as FMD-free. Thus, even though we are proposing to declare a region of Namibia free of FMD, there is a risk that animals or animal products originating in that region of Namibia may be commingled with animals or animal products originating in an FMD-affected region.

This action would relieve certain restrictions due to FMD and rinderpest on the importation of live animals, germplasm, and animal products from the region of Namibia south of the VCF. However, because we consider Namibia to be affected with other animal diseases that are exotic to the United States, the importation of live ruminants and germplasm would continue to be restricted. In addition, because we consider Namibia as affected with African swine fever, classical swine fever, and swine vesicular disease, the importation of live swine and pork and pork products would continue to be restricted. All other meat and meat products imported into the United States from Namibia would be required to meet the requirements of § 94.11.

Under § 94.11, meat and other animal products of ruminants and swine, including ship stores, airplane meals, and baggage containing these meat or animal products, may not be imported into the United States except in accordance with § 94.11 and the applicable requirements of the U.S. Department of Agriculture's Food Safety and Inspection Service at 9 CFR chapter III.

Section 94.11 generally requires that the meat and other animal products of ruminants and swine be: (1) Prepared in an inspected establishment that is eligible to have its products imported into the United States under the Federal Meat Inspection Act; and (2) accompanied by an additional certificate, issued by a full-time salaried veterinary official of the national government of the exporting region, assuring that the meat or other animal products have not been commingled with or exposed to meat or other animal products originating in, imported from, transported through, or that have otherwise been in a region where rinderpest or FMD exists.

Conclusion

We have concluded that the Namibian Government has the laws, policies, and infrastructure to detect, respond to, and eliminate any reoccurrence of FMD. These findings are described in further detail in a risk analysis that may be obtained from the person listed under FOR FURTHER INFORMATION CONTACT and may be viewed on the Internet at http://www.aphis.usda.gov/vs/ncie/reg-request.html by following the link for “Information previously submitted by Regions requesting export approval and their supporting documentation.” The objective of the risk analysis is to evaluate the likelihood of introducing FMD virus into the United States through the importation of FMD-susceptible species and products. APHIS could identify no risk factors currently applicable to Namibia that would justify keeping the region of Namibia south of the VCF from the list of regions APHIS considers as FMD free.

Executive Order 12866 and Regulatory Flexibility Act

This proposed rule has been reviewed under Executive Order 12866. For this action, the Office of Management and Budget has waived its review under Executive Order 12866.

This proposed rule would amend the regulations in § 94.1 to list Namibia as a region free of rinderpest and the region of Namibia south of the VCF as a region free of FMD. However, since Namibia borders on and trades with regions that the United States does not recognize as free of FMD and because its importation standards are less stringent than those of the United States, we are also proposing to list the region of Namibia south of the VCF in § 94.11 as a region subject to the additional certification requirements of that section.

It should be noted that Namibia is not currently eligible to export ruminant meat products to the United States under the FSIS regulations cited earlier in this document; there would, therefore, be no economic effects on U.S. entities until establishments in Namibia were approved to export ruminant meat and other products to the United States. The following analysis examines the potential economic impacts of the proposed changes in the regulations that could occur if this proposed rule were implemented and establishments in Namibia were approved to export under the FSIS regulations.

Namibia produces and internationally trades in beef, sheep, goat, and game meat. Namibia produced 134 million pounds of beef in 2004 and exported an average of 59.2 million pounds of beef and veal per year between 1994 and 2003. The country has established trading relationships with the Republic of South Africa and several western European countries. Namibia also produced 29.6 million pounds of mutton, lamb, and goat meat in 2003 and exported an average of 5.73 million pounds per year between 1994 and 2003, with most exports going to the Republic of South Africa. Namibia produced 8.8 million pounds of game meat in 2003.

Namibia's agricultural trade with the United States is small. In 2003, Namibia exported agricultural products worth a total $199,000, of which $21,000 was for hides and skins, and imported $5.443 million worth of agricultural products, of which $40,000 was for beef and veal. (Sources: FAO, FAOSTAT, 2004; UN/FAO, FAOSTAT Data, 2004; Hilda Hampweya, April 2005, personal communication, Namibia Division of Trade and Statistics.)

Possible economic effects of imports from Namibia would differ for beef and for sheep and goat meat imports. For beef imports, approximately 22 million pounds of beef may be imported annually from Namibia as a result of the proposed rule, based on data collected from the Central Bureau of Statistics-Trade Statistics Division of Namibia. Based on 10-year average U.S. domestic supply, an import of about 22 million pounds of beef would result in a price decrease of less than $0.002 per pound at the wholesale level. If 50 percent of Namibia's 10-year average beef exports (29.6 million pounds) were diverted to the U.S. market, the result would be a price decline of only $0.0024 per pound (Table 2).

As for sheep and goats, the estimated potential exports to the United States of these meats are about 15.43 million pounds per year according to data collected from the Central Bureau of Statistics-Trade Statistics Division of Namibia. If this supply were realized, U.S. sheep and goat meat prices could decline and sheep producers could be negatively affected, as the above figure represents about 4.35 percent of U.S. domestic supply. This could result in a price decline of $0.07 per pound (Table 2). However, it is questionable whether Namibia would have the capacity to export this amount and maintain its trade with its established South African and European markets. Although several markets in the European Union are accessible to Namibia, the Republic of South Africa continues to be its major trading partner. Namibia exported 15.66 million pounds of sheep and goat meat to all countries in 2003, so to meet this goal of 15.43 million pounds exported to the United States, nearly all of the current exports would have to be diverted. Between 1994 and 2003, Namibian exports of sheep and goats have fluctuated, with a negative export growth rate in every year except for four: 1995, 1998, 1999, and 2001. The impact is not as large when based on the 10-year average quantity exported of 5.73 million pounds. Assuming this level of export to the United States, the estimated decline in price is between $0.02 and $0.03 per pound.

Table 2.—The Impact of the Importation Of Beef, Sheep, and Goat Meat From Namibia to the United States
Percentage diverted to the U.S. market ¹ | Beef: Million pounds | Beef: Change in price (%) | Beef: Decline in price (cents/pound) | Beef: Domestic producer loss (millions of $) | Sheep and goat meat: Million pounds | Sheep and goat meat: Change in price (%) | Sheep and goat meat: Decline in price (cents/pound) | Sheep and goat meat: Domestic producer loss (millions (%)
10 | 5.92 | −0.0291 | −0.0483 | −11.902 | 0.573 | −0.231 | −0.261 | −0.435
20 | 11.84 | −0.0582 | −0.0966 | −23.795 | 1.146 | −0.461 | −0.521 | −0.871
40 | 23.68 | −0.1164 | −0.1932 | −47.586 | 2.293 | −0.922 | −1.042 | −1.742
50 | 29.6 | −0.1454 | −0.2414 | −59.479 | 2.865 | −1.153 | −1.303 | −2.177
Designated | ²22.05 | −0.1083 | −0.1799 | −44.309 | ²15.43 | −6.209 | −7.016 | −11.725
¹ The percentages are based on the 10-year average exports: 59.2 million pounds for beef and 5.73 million pounds for sheep and goat meat.
² Denotes the estimated amount indicated by Namibian Agricultural specialists and the industry as being available for export to the United States.

The impacts depicted in Table 2 are further considered in terms of effects for large and small entities in Table 3 (beef producers) and Table 4 (sheep and goat producers). In each case, impacts at various import levels are apportioned between large and small establishments by inventory share, according to the 2002 Census of Agriculture. Average effects per establishment are calculated based on numbers of large and small establishments with reported sales (2002 Census of Agriculture). As shown in Table 3, if Namibia were to divert to the United States 22.05 million pounds of beef exports per year, as projected by that country's agricultural specialists, the average annual decline in revenue for U.S. small entities would be about $28. Similarly, if 15.43 million pounds of sheep and goat meat exports per year were diverted to the United States, as projected by Namibia, the average annual decline in revenue for U.S. small entities would be about $108.

Table 3.—Potential Effects for Large and Small Beef Cattle Producers
Percentage diverted to the U.S. market ¹ | U.S. producer revenue loss (millions of $) | Large ²: Revenue loss (millions of $) | Large ²: Average revenue loss ($) | Small ²: Revenue loss (millions of $) | Small ²: Average revenue loss ($)
10 | −11.902 | −5.571 | −860 | −6.331 | −8
20 | −23.795 | −11.138 | −1,719 | −12.657 | −15
40 | −47.586 | −22.275 | −3,437 | −25.311 | −30
50 | −59.479 | −27.642 | −4,265 | −31.637 | −38
Designated | −44.309 | −20.741 | −3,200 | −23.568 | −28
¹ The percentages are based on the 10-year average exports: 59.2 million pounds for beef and 5.73 million pounds for sheep and goat meat.
² Revenue losses to large and small establishments are distributed according to inventory share (46.81 percent for large and 53.19 percent for small establishments). Averaged revenue losses are calculated by dividing by the number of establishments (845,490 and 6,481 for small and large establishments, respectively).

Table 4.—Potential Effects for Large and Small Sheep and Goat Producers
Percentage diverted to the U.S. market ¹ | U.S. producer revenue loss (millions of $) | Large ²: Revenue loss (millions of $) | Large ²: Average revenue loss ($) | Small ²: Revenue loss (millions of $) | Small ²: Average revenue loss ($)
10 | −0.435 | −0.114 | −765 | −0.321 | −4
20 | −0.871 | −0.229 | 1,537 | −0.642 | −8
40 | −1.742 | −0.458 | −3,074 | −1.284 | −16
50 | −2.177 | −0.573 | −3,846 | −1.604 | −20
Designated | −11.725 | −3.084 | −20,698 | −8.641 | −108
¹ The percentages are based on the 10-year average exports: 59.2 million pounds for beef and 5.73 million pounds for sheep and goat meat.
² Revenue losses to large and small establishments are distributed according to inventory share (26.3 percent for large and 73.7 percent for small establishments). Average revenue losses are calculated by dividing by the number of establishments (80,443 and 149 for small and large establishments, respectively).

According to the size standards established by the Small Business Administration (SBA) for livestock and animal specialties, producers of cattle and calves (North American Industry Classification System [NAICS] code 112111), game animal (NAICS 112990), sheep (NAICS 112410) and goat (NAICS 112420) producers with not more than $750,000 annual sales qualify as small entities. Based on data from the 2002 Census of Agriculture, 851,971 operations in the U.S. raised and sold 73 million cattle and calves in 2002. Small operations (over 99 percent of the farms) had an average of 68 cattle and an average income of $24,067, well below the SBA criterion of $750,000 in annual sales for businesses primarily engaged in cattle farming. Large operations had an annual income of $3,821,440. Similarly, over 99 percent of sheep and goat producers (80,443) are small. Small sheep and lamb producers had an average income of $7,520, while large ones had an average income of $1.042 million.

Meat packing establishments (NAICS 311611), and meat and meat product wholesale traders (NAICS 422470) might be affected (Source: U.S. Census Bureau, 1997 Economic Census, Wholesale Trade-Subject Series, August 2000). Under SBA standards, meat packing establishments with no more than 500 employees and meat and meat product wholesale traders with no more than 100 employees are considered small. In 1997, there were 1,393 companies in the United States that processed and sold meat. More than 95 percent of these establishments are considered to be small entities and had average sales of $9.7 million, while large meat packers had average sales of $603 million. In 1997, there were total of 3,150 meat and meat product wholesale traders in the United States (Source: SBA and 1997 Economic Census). Of these establishments, 3,084 (97.9 percent) employed not more than 100 employees and are, thus, considered small by SBA standards. Small wholesalers had average sales of $8.85 million, while large entities had average sales of $348 million. Thus, predominant numbers of producers, packers and wholesale traders are considered to be small by SBA standards. Average sales of even the smallest packers and wholesalers are large compared to the quantities expected to be imported from Namibia. Furthermore, any impact on these entities would likely be positive since imports would increase the supply.

We have only limited information with regard to the production, demand, price, trade of game meat, or the number of small entities involved in these businesses. We welcome any information that the public may offer in this area.

The only alternative to the proposed rule would involve not changing the current regulations regarding the importation of beef, sheep, and goat meat and game meat from Namibia. This alternative would not meet the needs of importers who are attempting to establish a new source of supply for red meat and would deny both businesses and consumers the benefits of widened choices. The proposed rule provides the safeguarding measures appropriate to the risk associated with importation of this type of animal product. The proposed rule also enhances a positive trade environment between Namibia and the United States. We note again that Namibia is not currently eligible to export ruminant meat products to the United States under the FSIS regulations cited earlier in this document; there would, therefore, be no economic effects on U.S. entities until establishments in Namibia were approved to export ruminant meat and other products to the United States.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we propose to amend 9 CFR part 94 as follows:

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

1. The authority citation for part 94 would continue to read as follows:

Authority: 7 U.S.C. 450, 7701-7772, 7781-7786, and 8301-8317; 21 U.S.C. 136 and 136a; 31 U.S.C. 9701; 7 CFR 2.22, 2.80, and 371.4.

§ 94.1 [Amended]

2. Section 94.1 would be amended as follows:

a. In paragraph (a)(2), by adding the words “Namibia (excluding the region north of the Veterinary Cordon Fence),” after the word “Mexico,”.

b. In paragraph (a)(3), by removing the words “The Republic” and adding the words “Namibia and the Republic” in their place.

§ 94.11 [Amended]

3. In § 94.11, paragraph (a) would be amended by adding the words “Namibia (excluding the region north of the Veterinary Cordon Fence),” before the words “The Netherlands”.

Done in Washington, DC, this 8th day of June 2006.
Kevin Shea,
Acting Administrator, Animal and Plant Health Inspection Service.

[FR Doc. 06-5440 Filed 6-13-06; 8:45 am]

BILLING CODE 3410-34-P